DEPARTMENT OF HOMELAND SECURITY

Coast Guard

[USCG-2006-24163]

National Environmental Policy Act; Environmental Impact Statement on U.S. Coast Guard Pacific Area Operations

AGENCY: Coast Guard, DHS.

ACTION: Notice of intent; request for public comments.

SUMMARY: The Coast Guard announces its intent to prepare an Environmental Impact Statement (EIS) to review possible changes to the Coast Guard's operations in the areas of responsibility for Coast Guard Districts 11 and 13 (California, Oregon and Washington) and requests public comments. The EIS will analyze the environmental impacts of Coast Guard vessel and air operations when engaged in the following missions and activities: law enforcement, national security, search and rescue, aids to navigation, and oil pollution and vessel grounding response.

Publication of this notice begins the official scoping process that will help identify alternatives and refine the scope of environmental issues to be addressed in the EIS. This notice requests public participation in the scoping process for this Coast Guard action, provides information on how to participate, and identifies a set of preliminary alternatives to serve as a starting point for discussion.

DATES: Comments and related material must reach the Docket Management Facility on or before May 5, 2006.

ADDRESSES: You may submit comments identified by Coast Guard docket number USCG-2006-24163 to the Docket Management Facility at the U.S. Department of Transportation. To avoid duplication, please use only one of the following methods:

(1) Electronically through the Web site for the Docket Management System at http://dms.dot.gov.

(2) By mail to the Docket Management Facility, (USCG-2006-24163), U.S. Department of Transportation, Room PL-401, 400 Seventh Street SW., Washington, DC 20590-0001.

(3) By fax to the Docket Management Facility at 202-493-2251.

(4) By delivery to room PL-401 on the Plaza level of the Nassif Building, 400 Seventh Street SW., Washington, DC, between 9 a.m. and 5 p.m., Monday through Friday, except Federal holidays. The telephone number is 202-366-9329.

FOR FURTHER INFORMATION CONTACT: If you have questions on this notice, contact Frank Esposito, Coast Guard, (fesposito@comdt.uscg.mil) or 2100 2nd St., SW., Washington, DC 20593. If you have questions on viewing or submitting material to the docket, call Renee V. Wright, Program Manager, Docket Operations, telephone 202-493-0402.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-24163) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this rulemaking, and click on “Search.” You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

If you wish to be added to the mailing list for this project, you may make a request through the project Web site, by mail to the docket at Docket Management Facility, (USCG-2006-24163), U.S. Department of Transportation, Room PL-401, 400 Seventh Street SW., Washington, DC 20590-0001, or by fax to the Docket Management Facility at 202-493-2251.

Background

The Coast Guard is one of the country's five armed services and the nation's oldest maritime agency. Positioned within the Department of Homeland Security, the Coast Guard is the only maritime service with regulatory and law enforcement authority, military capabilities, and humanitarian operations. Coast Guard activities encompass critical elements of Homeland Security operations in littoral regions, including port security and safety, marine environmental response, maritime interception, coastal control, and maritime force protection. More than two centuries of littoral operations at home and overseas have honed the Coast Guard's skills most needed to support the nation's military and naval strategies for the 21st century. The Coast Guard has five primary missions, including: Maritime Safety, Maritime Mobility, Maritime Security, National Defense, Protection of Natural Resources.

The Coast Guard has the authority under Federal laws to carry out programs, in consultation with the National Oceanic and Atmospheric Administration's National Marine Fisheries Service (NMFS) and the U.S. Fish and Wildlife Service (USFWS), to protect and conserve threatened and endangered marine species and their habitats. In doing so, the Coast Guard must balance the increasing and competing demands of environmental protection and natural resource enhancement while meeting other mission requirements.

A vital component of the Coast Guard's natural resource protection program is Ocean Steward, its 1999 strategic plan for helping the nation recover and maintain healthy populations of marine protected species. Ocean Steward has two general emphases: enforcement and conservation. Coast Guard objectives include assisting in preventing the decline of marine protected species populations, promoting the recovery of marine protected species and their habitats, partnering with other agencies and organizations to enhance stewardship of marine ecosystems and ensuring internal compliance with appropriate legislation, regulations and management practices. Another important component of the Coast Guard's natural resource protection program is Ocean Guardian, its strategic plan for fisheries management and enforcement. Its primary goal is to provide effective enforcement in support of the national goals for fisheries resource management and conservation. Ocean Steward and Ocean Guardian complement each other and provide a comprehensive framework for the Coast Guard's efforts to ensure the nation's waterways and their ecosystems remain productive by protecting all of the nation's marine protected species and marine protected areas from degradation.

Proposed Action

The Coast Guard may be able to change some of its operations in order to better support conservation and recovery of marine protected species and marine protected areas within the maritime and coastal areas of Coast Guard Districts 11 and 13 (California, Oregon, and Washington). The Coast Guard is preparing an EIS to review the effects of its PACAREA operations on the maritime and coastal environment in these two districts. If the EIS leads the USCG to conclude that there will be significant negative environmental impacts without changes to internal operations as they pertain to these missions and activities, the USCG proposes, consistent with national security concerns, to employ new measures and guidance to avoid or minimize these impacts. Specifically, the EIS will focus on the environmental impacts of Coast Guard vessel and air operations on marine protected species and marine protected areas when engaged in the following routine missions and activities: law enforcement, national security, search and rescue, aids to navigation, and oil pollution and vessel grounding response. These operations will be catalogued and evaluated to determine whether there is cause to augment or modify any Coast Guard process or procedure so as to avoid or minimize significant adverse impact on the indicated environment.

As is standing policy for the Coast Guard, the agency is committed to conducting their operations in a manner that supports conservation and recovery of protected marine protected species and marine protected areas. Preparation of this EIS is a proactive measure that will provide the assessment necessary to enhance Coast Guard fulfillment of its marine resource protection mission, without compromising its ability to perform other missions. This action will further the Coast Guard environmental compliance mission while recognizing and supporting accomplishment of the missions assigned to the Coast Guard by Congress and the Executive Branch.

Alternatives

The Coast Guard will evaluate a range of alternatives in the Draft EIS based on a suite of mitigation measures, within its command authority, developed to minimize one or more of any determined environmental impacts incidental to Pacific Area operations within the last four years. Viable alternatives will include new measures and guidance, as well as modifications to existing PACAREA operational directives or operating procedures, which have the potential to enhance living marine resource protection by avoiding or minimizing the environmental impact of Coast Guard actions.

Examples of viable alternatives include, but are not limited to, (1) No Action Alternative; (2) enhanced protected species and area training for vessels; (3) enhanced protected species and area training for Air Station flight crews; (4) implementation of mandatory speed restrictions for Coast Guard vessels transiting within protected species migratory or high-use areas during non-emergency operations; and (5) implementation of a mandatory Whale Reporting Program for Coast Guard vessels and aircraft. These alternatives are described in more detail below. An array of specific alternatives will be developed based on issues raised during the public scoping period. The probable environmental, biological, cultural, social, and economic consequences of these alternatives and other activities under Coast Guard command that may cumulatively impact the environment are expected to be considered in the draft EIS.

Alternative 1—No Action Alternative: Under this alternative, the Coast Guard would continue its existing operations, without augmentation or modification, to conserve protected marine protected species and marine protected areas by balancing its current level of effort with other mission responsibilities and operational tempo. Current protection efforts include:

• Establishing and maintaining a Protected Living Marine Resource Program (PLMRP) at each District consisting of the following:

○ Descriptions of areas of special interest including designated critical habitat, marine mammal high-use areas, national marine sanctuaries, national wildlife refuges, and areas of special biological significance.

○ Enforcement procedures and guidance specific to the protected species concerns and areas within their area of responsibility (AOR).

○ Marine animal response protocols (including notification and reporting requirements) for entangled, stranded, injured or dead animals and corresponding contact information.

○ Operating procedures and directives for Coast Guard operation of its vessels and aircraft designed to minimize negative interactions with marine protected species and within marine protected areas.

○ Identification of local NMFS-approved stranding and disentanglement networks, and notification of protected species stranding, entanglement, injury or death.

• Instituting HQ, Area, and District operating procedures and directives for Coast Guard operation of its vessels and aircraft designed to minimize negative interactions with marine protected species and within marine protected areas, including formalized speed and approach guidance around marine mammals.

• Enforcing the Endangered Species Act (ESA), Marine Mammal Protection Act (MMPA), National Marine Sanctuaries Act (NMSA), and other pertinent environmental regulations.

• Participating in regional multi-agency working groups, recovery teams, implementation teams, take reduction teams, sanctuary advisory councils and task forces.

• Maintaining properly trained look-outs aboard vessels at all times.

• Establishing Memorandums of Agreement (MOAs) with National Marine Sanctuaries (NMSs) outlining procedures for coordinating enforcement activities.

• Conducting routine surveillance of NMSs concurrently with other Coast Guard operations, and providing specific targeted or dedicated law enforcement as appropriate. Sanctuary surveillance and enforcement is incorporated into routine patrols orders where feasible.

• Providing other agencies with platforms to conduct critical marine protected species research and recovery efforts during stranding and recovery operations, subject to availability of resources.

• Providing applicable marine mammal specific training through Coast Guard Regional Fisheries Training Centers to help prevent adverse interactions with marine mammals.

• Participating in NMFS' Marine Mammal Health and Stranding Response Program as a Co-Investigator. Via this designation, Coast Guard personnel provide the following support to NMFS with regard to distressed marine mammals: (a) Temporarily restraining and/or holding in captivity, (b) disentangling, (c) transporting, (d) attaching tags, (e) euthanizing, and (f) collecting samples.

• Implementing formal guidelines for disposal of animal carcasses.

• Providing opportunistic marine mammal sighting information to the National Marine Mammal Laboratory's Platforms of Opportunity Program (POP).

• Investigating and modifying procedures as needed in response to all complaints and concerns regarding environmental disturbance incidental to operations.

Alternative 2—Enhance protected species and area training for vessel crews: This alternative would include all of the actions of Alternative 1, as well as possible modifications for Coast Guard Officer on Deck (OOD), boat operator and look-out training for protected species identification, behavioral characteristic recognition, spotting techniques, and vessel operation around protected species and in protected areas. The Coast Guard would continue to post a look-out on its vessels. Posting a look-out and identifying and avoiding objects in the water are standard operating procedures aboard Coast Guard vessels of all sizes. This measure ensures the safety of the crew, minimizes vessel damage, and protects wildlife in the area. However, marine mammals and turtles are often very difficult to spot, and collisions may still occur, especially at night or if weather conditions are adverse (e.g., foggy or windy). Spotting marine mammals and turtles, and maneuvering around them is an acquired skill that comes with experience and education.

Alternative 3—Enhance protected species and area training for Air Station flight crews: This alternative would include all of the actions of Alternative 1, as well as possible modifications for Coast Guard Air Station flight crew training for protected species identification, behavioral characteristic recognition, spotting techniques, and aircraft operation around protected species and in protected areas.

Alternative 4—Mandatory vessel speed restrictions for Coast Guard vessels transiting protected species migratory and high-use areas during non-emergency operations: In addition to all the actions under Alternative 1, this alternative would establish mandatory speed limits for Coast Guard vessels operating in known protected species migratory or high-use areas under normal circumstances (not to include emergency operations). Emergency operations are defined as those operations for which rapid response is required to avoid the loss of life and property (e.g., Search and Rescue). They include urgent law enforcement incidents and matters of national security, and are defined by operational commanders on a case-by-case basis. The mandatory speed limit would only apply during non-emergency operations such as area familiarization trips, routine law enforcement patrols, and training exercises.

Alternative 5—Mandatory Whale Reporting Program for Coast Guard vessels and aircraft: In addition to all of the actions under Alternative 1, this alternative would establish a real-time web-based Whale Reporting Program within the Coast Guard. This program would be maintained centrally by the PACAREA Office and would collect vital information on real-time locations of live, dead, injured, or entangled whales. All units would be required to report the following information for any whale sighting: time and location of sighting, distinctive features of the animal and its estimated length, signs of injury or entanglement, description of behavior and injuries, condition of carcass for dead whales, and contact information of reporter. Reports could be provided via phone, email, or fax. The website would allow for regional sorting so that in preparation for (or during) a patrol, units would be able to log on to the website and receive vital real-time regional sighting information for the area in which they will be transiting/patrolling.

Public Involvement and Scoping Meetings,

Public scoping meetings will be held as follows:

1. Tuesday, April 4, 2006, Oakland, California—Informational Open House, 4-6 p.m., Scoping Comment Meeting, 7-9 p.m., Waterfront Plaza Hotel, Ten Washington Street, Oakland, CA 94607, (415) 486-8148.

2. Thursday, April 6, 2006, 7-10 p.m., Seattle, WA—Informational Open House, 4-6 p.m., Scoping Comment Meeting, 7-9 p.m., Seattle Hilton, 1301 6th Avenue, Seattle, Washington 98101, (206) 695-6060.

Request for Comments: The Coast Guard provides this notice to advise the public and other agencies of the Coast Guard's intentions, to obtain suggestions and information on the scope of issues to include in the EIS, and to request comments from those parties that may be interested or affected by these proposed alternatives. Comments and suggestions are invited from all interested parties to ensure that the full range of issues related to this proposed action and all significant issues are identified. The Coast Guard requests that comments be as specific as possible. In particular, the agency requests information regarding: (1) Examples of positive and negative impacts of Coast Guard operations and activities on marine resources, species and areas within California, Oregon, and Washington, (2) suggested measures to avoided or reduce negative operational impacts on the environment (3) comments regarding alternatives already under consideration, (4) suggestions of additional alternatives to consider, and (5) maps, data sources and specific information regarding distribution and abundance of marine protected species within California, Oregon, and Washington, as well specific information about the status of or threats to these species.

Dated: March 14, 2006.
S.D. Genovese,
Captain, U.S. Coast Guard, Chief, Office of Law Enforcement.

[FR Doc. E6-4021 Filed 3-20-06; 8:45 am]

BILLING CODE 4910-15-P